DEPARTMENT OF COMMERCE

International Trade Administration

[A-821-801]

Solid Urea From the Russian Federation: Antidumping Duty Administrative Review; 2010-2011

AGENCY: Import Administration, International Trade Administration, Department of Commerce.

SUMMARY: On July 18, 2012, the Department of Commerce published the preliminary results of the administrative review of the antidumping duty order on solid urea from the Russian Federation (Russia). The period of review is July 1, 2010, through June 30, 2011. We gave interested parties an opportunity to comment on the preliminary results, but we received no comments. The final weighted-average dumping margin for MCC EuroChem is listed below in the “Final Results of the Review” section of this notice.

DATES: Effective October 22, 2012.

FOR FURTHER INFORMATION CONTACT: Dustin Ross or Minoo Hatten, AD/CVD Operations, Office 1, Import Administration, International Trade Administration, U.S. Department of Commerce, 14th Street and Constitution Avenue NW., Washington, DC 20230; telephone: (202) 482-0747 or (202) 482-1690, respectively.

SUPPLEMENTARY INFORMATION:

Background

On July 18, 2012, the Department of Commerce (the Department) published the preliminary results of the administrative review of the antidumping duty order on solid urea from Russia. See Solid Urea From the Russian Federation: Preliminary Results of Antidumping Duty Administrative Review, 77 FR 42273 (July 18, 2012) (Preliminary Results). We invited interested parties to comment on the Preliminary Results, but we received no comments. The Department has conducted this administrative review in accordance with section 751(a) of the Tariff Act of 1930, as amended (the Act).

Scope of the Order

The merchandise subject to the order is solid urea, a high-nitrogen content fertilizer which is produced by reacting ammonia with carbon dioxide. The product is currently classified under the Harmonized Tariff Schedules of the United States (HTSUS) item number 3102.10.00.00. Such merchandise was classified previously under item number 480.3000 of the Tariff Schedules of the United States. Although the HTSUS subheading is provided for convenience and customs purposes, the written description of the merchandise subject to the order is dispositive.

Final Results of the Review

We have made no changes to our calculations announced in the Preliminary Results. As a result of our review, we determine that a weighted-average dumping margin of 0.00 percent exists for MCC EuroChem for the period July 1, 2010, through June 30, 2011.

Assessment Rates

In accordance with the Final Modification, we will instruct U.S. Customs and Border Protection (CBP) to liquidate the reviews entries without regard to antidumping duties.¹

¹ See Antidumping Proceedings: Calculation of the Weighted-Average Dumping Margin and Assessment Rate in Certain Antidumping Duty Proceedings; Final Modification, 77 FR 8101 (February 14, 2012) (Final Modification).

The Department clarified its “automatic assessment” regulation on May 6, 2003. This clarification will apply to entries of subject merchandise during the period of review produced by MCC EuroChem for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department intends to issue assessment instructions directly to CBP 15 days after publication of these final results of review.

Cash Deposit Requirements

The following deposit requirements will be effective upon publication of this notice for all shipments of solid urea from Russia entered, or withdrawn from warehouse, for consumption on or after the date of publication, as provided by section 751(a)(1) of the Act: (1) The cash deposit rate for MCC EuroChem will be 0.00 percent; (2) for merchandise exported by manufacturers or exporters not covered in this review but covered in the original less-than-fair-value (LTFV) investigation or previous reviews, the cash deposit rate will continue to be the company-specific rate published for the most recent period; (3) if the exporter is not a firm covered in this review, a prior review, or the original investigation but the manufacturer is, the cash deposit rate will be the rate established for the most recent period for the manufacturer of the merchandise; (4) the cash deposit rate for all other manufacturers or exporters will continue to be 64.93 percent, the all-others rate established in the LTFV investigation. See Urea From the Union of Soviet Socialist Republics; Final Determination of Sales at Less Than Fair Value, 52 FR 19557, 19561 (May 26, 1987). Following the break-up of the Soviet Union, the antidumping duty order on solid urea from the Soviet Union was transferred to the individual members of the Commonwealth of Independent States. See Solid Urea From the Union of Soviet Socialist Republics; Transfer of the Antidumping Order on Solid Urea From the Union of Soviet Socialist Republics to the Commonwealth of Independent States and the Baltic States and Opportunity to Comment, 57 FR 28828 (June 29, 1992). The rate established in the LTFV investigation for the Soviet Union was applied to each new independent state, including Russia. These cash deposit requirements shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to the administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i)(1) of the Act.

Dated: October 15, 2012.
Paul Piquado,
Assistant Secretary for Import Administration.

[FR Doc. 2012-25973 Filed 10-19-12; 8:45 am]

BILLING CODE 3510-DS-P